DEPARTMENT OF LABOR

Office of the Secretary

Submission for OMB review; comment request

June 29, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail to King-Darrin@dol.gov.

Comments should be sent to Office of Information and Regulatory Affairs, Attn: Stuart Shapiro, OMB Desk OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Respiratory Protection.

OMB Number: 1218-0099.

Frequency: On occasion.

Affected Public: Business or other for-profit; Federal Government; State, Local or Tribal Government.

Total Burden Hours: 6,468,682.

Number of Respondents: 1,300,000.

Annual Responses: 18,112,941.

Estimated Time Per Respondent: Time per response varies from 8 hours for large facilities to develop a written respiratory program to 5 minutes for employers to maintain employee medical-evaluation records.

Total Annualized capital/startup costs: $0.

Total Annualized costs (operating/maintaining systems or purchasing services): $72,900,680.

Description: The Respiratory Protection Standard's information-collection requirements require employers to: Develop a written respiratory program; conduct employee medical evaluations and provide follow-up medical evaluations to determine the employee's ability to use a respirator; provide the physician or other licensed health care professional with information about the employee's respirator and the conditions under which the employee will use the respirator; and administer fit-tests for employees who will use negative or positive-pressure, tight-fitting facepieces. In addition, employers must ensure that employees store emergency-use respirators in compartments clearly marked as containing emergency-use respirators. For respirators maintained for emergency use, employers must label or tag the respirator with a certificate stating the date of inspection, the name of the individual who made the inspection, the findings of the inspection, required remedial action, and the identity of the respirator.

The Standard also requires employers to ensure that cylinders used to supply breathing air to respirators have a certificate of analysis from the supplier starting that the breathing air meets the requirements for Type 1—Grade D breathing air; such certification assures employers that the purchased breathing air is safe. Compressors used to supply breathing air to respirators must have a tag containing the most recent change date and the signature of the individual authorized by the employer to perform the change. Employers must maintain this tag at the compressor. These tags provide assurance that the compressors are functioning properly.

Type of Review: Extension of a currently approved collection.

Agency: Occupational Safety and Health Administration (OSHA).

Title: Ionizing Radiation.

OMB Number: 1218-0103.

Frequency: On occasion.

Affected Public: Business or other for-profit; Federal Government; State, Local or Tribal Government.

Total Burden Hours: 27,642.

Number of Respondents: 12,113.

Annual Responses: 159,043.

Estimated Time Per Respondent: Time per response varies from 5 minutes (.08) to maintain radiation-exposure records to 15 minutes (.25) for employers to prepare a written report of employee overexposure for submission to OSHA.

Total Annualized capital/startup costs: $0.

Total Annualized costs (operating/maintaining systems or purchasing services): $1,719,720.

Description: The information-collection requirements mandated by the Ionizing Radiation Standard (§ 1910.1096); protect employees from the adverse health effects that may result from overexposure to ionizing radiation. These requirements specify that employers must telephone OSHA if they expose employees to radiation above the level defined by the Standard, send written reports of radiation overexposure to OSHA, maintain employee exposure records, and furnish these records to employees on request.

Type of Review: Extension of a currently approved collection.

Agency: Occupational Safety and Health Administration (OSHA).

Title: Construction Crane or Derrick Annual Inspection.

OMB Number: 1218-0113.

Frequency: Annually.

Affected Public: Business or other for-profit.

Total Burden Hours: 1 hour.

Number of Respondents: 132,737.

Annual Responses: 132,737.

Estimated Time Per Respondent: 0.

Total Annualized capital/startup costs: $0.

Total Annualized costs (operating/maintaining systems or purchasing services): $0.

Description: Paragraph (a)(6) of the Standard requires employers to perform annual inspections of cranes and derricks and to establish and maintain a written record of the dates and results of these inspections. The inspections identify problems such as deterioration caused by exposure to adverse weather conditions, worn components and other flaws and defects that develop during use, and accelerated wear resulting from misalignments of connecting systems and components.

Type of Review: Extension of a currently approved collection.

Agency: Occupational Safety and Health Administration (OSHA).

Title: Powered Platforms for Building Maintenance (29 CFR 1910.66).

OMB Number: 1218-0121.

Frequency: Annually; monthly; on occasion.

Affected Public: Business or other for-profit; Not-for-profit institutions; Federal Government; State, Local or Tribal Government.

Total Burden Hours: 119,645.

Number of Respondents: 990.

Annual Responses: 167,569.

Estimate Time per Respondent: Varies from 1 minute (0.02 hour) (to maintain a training record) to 10 hours (to inspect/test building-support structures and the components of a power platform.

Total Annualized capital/startup costs: $0.

Total Annualized (operating/maintaining systems or purchasing services): $0.

Description: Paragraph 1910.66(e)(9) requires that employers develop and implement a written emergency action plan for each kind of working platform operation. The plan must explain the emergency procedures which are to be followed in the event of a power failure, equipment failure or other emergencies which may be encountered. Employees are expected to inform themselves about the building emergency escape routes, procedures and alarm systems before operating a platform. Before initial assignment and whenever the plan is changed, the employer shall review with each employee those parts of the plan which the employee must know to protect himself or herself in the event of an emergency.

Paragraphs (g)(2)(i) and (g)(2)(ii) require that building supporting structures and all parts of the equipment undergo periodic inspection and tests by a competent person at intervals not exceeding 12 months. Paragraph (g)(2)(iii) requires the building owner to maintain and disclose, upon request, a certification record of each inspection and test. Paragraph (g)(3)(i) requires a competent person to perform a maintenance inspection and, where necessary, a test of each platform installation every 30 days. If the work cycle is less than 30 days, the inspection and/or test shall be made prior to each work cycle.

Paragraph (g)(3)(ii) requires the building owner to maintain a certification record of each inspection and test, and to disclose the record upon request. Paragraph (g)(5)(iii) requires a thorough inspection of suspension wire ropes in service once a month. Paragraph (g)(5)(v) requires the building owner to maintain a certification record of each monthly inspection and to disclose the record upon request.

Paragraph 1910.66(i)(1)(iv) requires the employer to develop written work procedures to be used to train employees. The written work procedures shall address the operation, safe use, and inspection of powered platforms. The employer would then prepare a certification record (under 1910.66(i)(1)(v)) to verify that the training has been administered. The final group of information collection requirements in the standard pertains to a number of provisions requiring tags and labels. It has been general industry practice for the manufacturer or installer of powered platforms to provide these tags and labels. However, it is estimated that the manufacturers and installers will not provide these tags and labels 10 percent of the time. Paragraph 1910.66(f)(5)(i)(C) requires a load rating plate to be affixed to each suspended unit.

Paragraph 1910.66(f)(5)(ii)(N) requires the compartment for an emergency electric operating device to be labeled with instructions for use. Paragraphs 1910.66(f)(7)(vi), 1910.66(f)(7)(vii), and 1910.66(f)(7)(viii) require the attachment of a tag on a suspension wire rope when it is installed, renewed or resocketed.

Type of Review: Extension of a currently approved collection.

Agency: Occupational Safety and Health Administration (OSHA).

Title: Specifications for Accident Prevention Signs and Tags (29 CFR 1910.145).

OMB Number: 1218-0132.

Frequency: On occasion.

Affected Public: Business or other for-profit; not-for-profit institutions; Federal Government; State, Local or and Tribal Government.

Total Burden Hours: 5,600.

Number of Respondents: 112,000.

Annual Responses: 112,000.

Estimated Time per Respondent: 3 minutes (0.05 hours).

Total Annualized capital/startup costs: $0.

Total Annualized costs (operating/maintaining systems or purchasing services): $0.

Description: A number of OSHA general industry (i.e., 29 CFR part 1910) standards require employers to post signs and tags notifying employees of workplace safety and health hazards. To meet these requirements, paragraph (a)(2) of 29 CFR 1910.145 mandates that employers use signs and tags that conform to specific design and wording requirements. In addition, employers must be select signs and tags that are appropriate to the dangers and hazards identified in the workplace; paragraphs (c)(1)(i), (c)(2)(i), (c)(3), (e)(4), (f)(3), (f)(5) through (f)(7), and (f)(8)(i) of the Standard specify the signs and tags that employers must select for these dangers and hazards. In addition, paragraphs (d)(1) through (d)(10), (e)(2), (f)(4)(i) through (f)(4)(iv), (f)(7), and (f)(8)(ii) provide the design and wording requirements for these signs and tags.

In summary, employers must ensure that the signs and tags selected are appropriate for the identified dangers and hazards and meet the design and wording requirements 29 CFR 1910.145. These paperwork requirements properly alert employees to workplace dangers and hazards, thereby preventing workplace-related injury and death.

Type of Review: Extension of a currently approved collection.

Agency: Occupational Safety and Health Administration (OSHA).

Title: Logging Operations (29 CFR 1910.266).

OMB Number: 1218-0198.

Frequency: Annually; On occasion.

Affected Public: Business or other for-profit; not-for-profit institutions; Federal Government; State, Local or Tribal Government.

Total Burden Hours: 6,350.

Number of Respondents: 14,000.

Annual Responses: 110,880.

Estimated Time per Respondent: Varies from 2 minutes (0.03 hour) to 5 minutes (0.08 hour).

Total Annualized capital/startup costs: $0.

Total Annualized cost (operating/maintaining systems or purchasing services): $0

Description: Paragraph (i)(1) of 29 CFR 1910.266 requires employers to provide training for each employee, including supervisors.To meet this requirement, employers must conduct the training at the frequencies specified by paragraph (i)(2).

Paragraph (i)(3) specifies that an employee's training must consist of the following elements: Safe work practices; including the use, operation, and maintenance of tools, machines, and vehicles the employee uses or operates, as well as procedures, practices, and requirements of the employer's worksite; recognition and control of health and safety hazards associated with the employee's specific work tasks and logging operations in general; and the requirements of the standard. Under paragraph (i)(7), employers must assure that every employee, including supervisors, receive first-aid and CPR training, this training must, at a minimum, conform to the requirements listed Appendix B of the standard.

Paragraph (i)(10)(i) specifies that employers must certify the training provided to employees.This certification must be in writing and provide the following information: The name/identifier of the employee; the date(s) of the training; and either the signature of the employer or the individual who conducted the training. Paragraph (i)(10)(ii) requires employers to maintain the most recent certification for training completed by an employee.

Training employees and supervisors in safe work practices and to recognize and control the safety and health hazards associated with their work tasks and overall logging operations enables them to prevent serious accidents by using specific procedures and equipment in a safe manner to avid or to control dangerous exposures to these hazards. In addition, the requirement to train every employee and supervisor in first-aid and CPR optimizes their availability to administer emergency treatment to employees injured during logging operations; universal training is critical because logging operations occur at isolated locations with employees and supervisors distributed over large work areas. This training requirement prevents serious injuries that occur in this highly-hazardous industry from becoming even more serious or fatal.

Establishing and maintaining written certification of the training provided to each employee assures the employer that every employee receives the training specified by the standard, and at the required frequencies. In addition, these records provide the most efficient means for an OSHA compliance officer to determine whether or not an employer performed the required training at the necessary and appropriate frequencies.

Type of Review: Extension of a currently approved collection.

Agency: Occupational Safety and Health Administration (OSHA).

Title: Storage and Handling of Anhydrous Ammonia (29 CFR 1910.111).

OMB Number: 1218-0208.

Frequency: On occasion.

Affected Public: Business or other for-profit; not-for-profit institutions; Farms; State, Local or Tribal Government.

Total Burden Hours: 56.

Number of Respondents: 330.

Annual Responses: 330.

Estimated Time per Respondent: 10 minutes (0.17 hour).

Total Annualized capital/startup costs: $0.

Total Annualized costs (operating/maintaining systems or purchasing services): $0.

Description: Paragraph (b)(3) of 29 CFR 1910.111 specifies that systems have nameplates if required, and that these nameplates “be permanently attached to the system so as to be readily accessible for inspection * * *.” In addition, this paragraph requires that markings on containers and systems covered by paragraphs (c) (“Systems utilizing stationary, nonrefrigerated storage containers”), (f) (“Tank motor vehicles for the transportation of ammonia”), (g) (“Systems mounted on farm vehicles other than for the application of ammonia”), and (h) (“Systems mounted on farm vehicles for the application of ammonia”) provide information regarding nine specific characteristics of the containers and systems. Similarly, paragraph (b)(4) states that information regarding eight specific characteristics of each container “shall be on the container itself or on a nameplate permanently attached to it.”

The required markings ensure that employers use only properly designed and tested containers and systems to store anhydrous ammonia, thereby preventing accidental release of, and exposure of employees to, this highly toxic and corrosive substance. In addition, these requirements provide the most efficient means for an OSHA compliance officer to ensure that the containers and systems are safe.

Ira L. Mills,
Department Clearance Officer.

[FR Doc. 01-17400 Filed 7-10-01; 8:45 am]

BILLING CODE 4510-26-M